SECURITIES AND EXCHANGE COMMISSION

[Release No. 35-27713; 70-10083]

Hydro-Quebec, et al.; Order Granting Limited Approval to Application of Hydro Quebec, et al.

On July 30, 2003, we issued notice of an application by Hydro-Quebec and certain of its subsidiaries under sections 9(a)(2) and 10 of the Act to acquire an interest in Cross-Sound Cable Company (New York) LLC (“CSC NY”). See Holding Co. Act Release 27703 (July 30, 2003.¹ The application also seeks exemptions for Hydro-Quebec and certain of its subsidiaries under sections 3(a)(5) and 3(a)(1) of the Act. As described in the notice, CSNY is constructing a transmission line (the “Cross Sound Cable”) between New York and Connecticut. The transmission line has not yet entered into commercial operation. The notice period for filing comments or requests for hearing with respect to the application runs through August 25, 2003.

¹ Specifically, Hydro-Québec (“HQ”), 75 René-Lévesque Blvd. West, Montréal, Québec H2Z 1A4 Canada, a corporation wholly owned by the government of Québec and a public-utility holding company that claims exemption under the Act under rule 10, and its subsidiaries, TransEnergie HQ, Inc. (“TEI”), 740 rue Nôtre-Dame Ouest, Bureau 800, Montréal, Québec, H3C 3X6 Canada, a Canadian corporation, TransEnergie U.S. Ltd. (“TEUS”), a Delaware corporation and Cross-Sound Cable Company (New York), LLC (“CSC NY”), a New York limited liability company, both located at 110 Turnpike Road, Westborough, MA 01581 (collectively, “Applicants”) have filed an application under sections 3(a)(1), 3(a)(5), 9(a)(2) and 10 of the Act in connection with a proposed acquisition of interests in CSC NY (the “Transaction”).

Applicants request an order under sections 9(a)(2) and 10 of the Act authorizing HQ through TEI and TEUS to acquire interests in CSC NY; an order exempting TEUS from registration under section 3(a)(1); and an order exempting HQ from registration under section 3(a)(5).

On August 14, 2003, in response to a sudden black-out affecting large parts of the eastern and midwestern sections of the United States, the Department of Energy issued an order pursuant to section 202(c) of the Federal Power Act requiring that the Cross Sound Cable be operated to, among other things, “alleviate the current disruptions in electric transmission service.” Department of Energy Order No. 202-03-1 (Aug. 14, 2003) (“DOE Order”).

Based upon these circumstances, we hereby grant the application of Hydro-Quebec et al. for the limited purpose of complying with the DOE Order.² Our grant of the application for these limited purposes is without prejudice to our ability to take any action with respect to this Order or the application following the conclusion of the notice period.

² The Commission has, in the past, issued orders in response to crises in the energy sector while at the same time retaining its authority to reconsider the matter at an appropriate time. See Union Electric Co., Holding Co. Act Release No. 18368 (Apr. 10, 1974).

The necessity for immediate action of the Commission does not permit prior notice of the Commission's action. CF. Holding Co. Act Release No. 35-27502 (Mar. 18, 2002).

Accordingly, it is ordered, pursuant to sections 3, 9(a)(2), 10 and 20 of the Public Utility Holding Company Act of 1935 that the application of Hydro-Quebec et al. is granted for the limited purpose of complying with Department of Energy Order 202-03-1.

By the Commission.
Margaret H. McFarland,
Deputy Secretary.

[FR Doc. 03-21401 Filed 8-20-03; 8:45 am]

BILLING CODE 8010-01-P